Title 3—

The President

Proclamation 7385 of December 6, 2000

National Pearl Harbor Remembrance Day, 2000

By the President of the United States of America

A Proclamation

While the bitter winds of war raged across much of the world on the morning of December 7, 1941, the United States was still at peace. At Pearl Harbor, the 130 vessels of the U.S. Pacific Fleet lay tranquil in the Sunday silence. Then, at 7:55 a.m., that silence was shattered by the sound of falling bombs and the rattle of machine-gun fire, as the war came home to America.

In making such a devastating preemptive strike, the forces of Imperial Japan sought to weaken our national spirit and cripple our military might. But our attackers would soon learn that they had seriously misjudged the character of the American people and the strength of our democracy. Though 21 ships were sunk or badly damaged, 347 aircraft destroyed or in need of significant repair, and some 3,500 Americans dead or injured, the attack on Pearl Harbor galvanized our Nation into action, reaffirmed our commitment to freedom, and strengthened our resolve to prevail.

Following the attack on Pearl Harbor, millions of Americans volunteered to serve in the Armed Forces. Millions of others filled factories and shipyards as the great industrial engine of our free enterprise system was harnessed to produce the planes, tanks, ships, and guns that armed the forces of freedom. Many of the ships sunk during the attack on Pearl Harbor were raised and repaired to sail once again with the U.S. Pacific Fleet—the same fleet that in September of 1945 would witness the surrender of Imperial Japan.

On Veterans Day this year, America celebrated the groundbreaking for a memorial in our Nation's capital dedicated to our World War II veterans. This memorial will stand as a testament to the countless brave Americans who responded to the attack on Pearl Harbor and the threat to our freedom by answering the call to service; both at home and overseas. It will also stand as testament to the spirit of a Nation that believes profoundly in the ideals upon which it was founded, and it will serve as an enduring reminder of what Americans can accomplish when we work together to achieve our common goals.

The outpouring of support for this memorial, from young and old alike, shows that the American people's deep conviction in our Nation's values has not diminished in the intervening years. We will never forget the men and women who took up arms in the greatest struggle humanity has ever known; nor will we forget the lessons they taught us: that we must remain ever vigilant, determined, and ready to advance the cause of freedom whenever and wherever it is threatened.

The Congress, by Public Law 103-308, has designated December 7, 2000, as “National Pearl Harbor Remembrance Day.”

NOW, THEREFORE, I, WILLIAM J. CLINTON, President of the United States of America, do hereby proclaim December 7, 2000, as National Pearl Harbor Remembrance Day. I urge all Americans to observe this day with appropriate programs, ceremonies, and activities in honor of the Americans who served at Pearl Harbor. I also ask all Federal departments and agencies, organizations, and individuals to fly the flag of the United States at half- staff on this day in honor of those Americans who died as a result of the attack on Pearl Harbor.

IN WITNESS WHEREOF, I have hereunto set my hand this sixth day of December, in the year of our Lord two thousand, and of the Independence of the United States of America the two hundred and twenty-fifth.

wj

[FR Doc. 00-31759

Filed 12-11-00; 8:45 am]

Billing code 3195-01-P